DEPARTMENT OF THE INTERIOR

Bureau of Indian Affairs

[245A2100DD/AAKC001030/A0A51010.999900]

Proclaiming Certain Lands as Reservation for Kootenai Tribe of Idaho

AGENCY: Bureau of Indian Affairs, Interior.

ACTION: Notice of reservation proclamation.

SUMMARY: This notice informs the public that the Assistant Secretary—Indian Affairs proclaimed approximately 1073.41 acres, more or less, an addition to the reservation of Kootenai Tribe of Idaho.

DATES: This proclamation was made on June 25, 2024.

FOR FURTHER INFORMATION CONTACT: Ms. Carla H. Clark, Bureau of Indian Affairs, Acting Division of Real Estate Services, Office of Trust Services, 1001 Indian School Road NW, Box #44, Albuquerque, New Mexico 87104, Carla.Clark@bia.gov, (702) 484-3233.

SUPPLEMENTARY INFORMATION: This notice is published in the exercise of authority delegated by the Secretary of the Interior to the Assistant Secretary—Indian Affairs by part 209 of the Departmental Manual.

A proclamation was issued according to the Act of June 18, 1934 (48 Stat. 984; 25 U.S.C. 5110) for the lands described below. The lands are proclaimed to be the Kootenai Reservation for the Kootenai Tribe of Idaho in Boundary County, Idaho.

Kootenai Tribe of Idaho, 16 Parcels, Boundary County, Idaho, Legal Descriptions Containing 1073.41 Acres, More or Less

188-T1041 Trout Creek Property

Lot 4, Section 6, Township 63 North, Range 1 East, and Lots 1, 7, 9, and 12, Section 1, Township 63 North, Range 1 West, all Boise Meridian, Boundary County, Idaho, containing 112.86 acres, more or less.

188-1040 Parking Lot Property

Parcel 1

Lots Seven (7) through Ten (10), Block 11, Eaton Addition, less the Northwesterly One (1) foot of Lots Seven (7) through Ten (10), Block Eleven (11), Eaton Addition to the City of Bonners Ferry, according to the plat thereof on file with the Boundary County, Idaho, Recorder.

Parcel 2

Lots Eleven (11) and Twelve (12), Block Eleven (11), Easton Addition to the City of Bonners Ferry, according to the plat thereof on file with the Boundary County, Idaho, Recorder less the Northerly one (1) foot thereof, for a combined acreage of 0.484, more or less.

Parcel 3

Lots Thirteen (13) and Fourteen (14), Block Eleven (11), Eaton addition to the City of Bonners Ferry, according to the plat thereof, recorded in book 1 of plats, page 7, records of Boundary County, Idaho less the northwesterly one (1) foot of lots Thirteen (13) and Fourteen (14), Block Eleven (11), Eaton addition to the City of Bonners Ferry, containing 0.194 acre, more or less.

Parcel 4

Parts of Lots One (1), Two (2) and Three (3), Block Fourteen (14), Eaton addition to the City of Bonners Ferry, Idaho, more particularly described as follows:

Commencing at the southeasterly corner of Lot One (1); thence north a distance of 60.00 feet along the eastern boundary line of Lots One (1), Two (2) and Three (3); thence westerly a distance of 30.00 feet; thence southerly 60.00 feet on a line parallel with the eastern boundary line of Lots One (1), Two (2) and Three (3); thence easterly 30.00 feet to the point of beginning, now a part of the City of Bonners Ferry, according to the plat thereof on file with the Boundary County, Idaho, recorder, containing 0.041 acre, more or less.

Parcel 5

Commencing at the southwest corner of Lot One (1), Block Fourteen (14), Eaton addition; thence north along the west line of Block Fourteen (14) a distance of 62.50 feet to a point; thence east a distance of 70.00 feet to a point; thence south a distance of 62.50 feet to the south line of Lot One (1), Block Fourteen (14), Eaton addition; thence west a distance of 70.00 feet to the point of beginning, containing 0.100 acre, more or less.

Parcel 6

That part of Lots Three (3) and Four (4), Block Fourteen (14), Eaton addition to the City of Bonners Ferry, according to the plat thereof on file with the Boundary County, Idaho, recorder, more particularly described as follows; to-wit:

Commencing at the northwest corner of said Lot Four (4); thence south along the west line of Lots Three (3) and Four (4), 37.50 feet, thence easterly and parallel to the north line of said Lot Four (4), 70 feet, thence south and parallel to the east line of lot three (3), 2.50 feet; thence east and parallel to the north line of Lot Four (4), 30 feet to the east line of Lot Three (3); thence north along the east line of Lots Three (3) and Four (4), 40 feet to the northeast corner of Lot Four (4); thence west along the north line of Lot Four (4), 100 feet, more or less, to the place of beginning; together with a Two (2) foot wide easement for pedestrian walkway purposes, along a line commencing at the northwest corner of said Lot Four (4), thence south along the west line of Lots Three (3) and Four (4), 37.50 feet to the true point of beginning, thence east and parallel to the north line of Lot Three (3), 70 feet to a point; thence south and parallel to the east line of Lot Three (3), 2 feet, thence west and parallel to the north line of Lot Three (3), 70 feet to the west line of Lot Three (3), 2 feet to the place of beginning; reserving unto the adjoining land on the south a one foot (1′) wide pedestrian walkway commencing at the northwest corner of said Lot Four (4), thence south along the west line of Lots Three (3) and Four (4), 37.50 feet to the true point of beginning, thence north along the west line of said Lot Three (3), 2 feet; thence east and parallel to the north line of Lot Three (3), 70 feet to a point; thence south and parallel to the east line of Lot Three (3), 2 feet; thence west and parallel to the north line of Lot Three (3), 70 feet, to a point on the west line of Lot Three (3); thence north along the west line of Lot Three (3), 2 feet to the place of beginning; and further reserving unto Gottlieb Fruck and Ethel Fruck, husband and wife, an easement to use the east 22.50 feet of the above described tract for the purposes of wood storage and access; provided however, this easement is personal to Gottlieb Fruck and Ethel Fruck, husband and wife, shall not run with the land and shall expire with the termination of occupancy by Gottlieb Fruck and Ethel Fruck, husband and wife, of the house located on the west 70 feet of Lots One (1), Two (2) and Three (3); provided further, that Gottlieb Fruck and Ethel Fruck, husband and wife, and Nelson M. Warner and Denise B. Warner, husband, and wife, hereto shall jointly maintain the walkway on the above described pedestrian easement, containing 0.088 acre, more or less.

Parcel 7

Lots Five (5) and Six (6), Block Fourteen (14), Eaton addition to the City of Bonners Ferry, according to the plat thereof on file with the Boundary County, Idaho, recorder, containing 0.115 acre, more or less. The foregoing parcels containing a combined acreage of 1.022 acres, more or less.

188-T1032 Mullis Property

That property lying within Section 26, T.62N., R.1E., Boundary County, Boise Meridian, Idaho, described as follows: Lots 3, 4, 5 and 6, Block 11, Eaton addition to Bonners Ferry, Idaho, according to the plat thereof recorded in Book 1 of plats, page 7, of official records, except the northwesterly one (1) foot thereof, containing, after said exception, 0.287 acres, more or less.

183-T1014 Upper Twin Rivers Property

All that part of Section 15 lying east of Moyie River and west of old highway no. 2 (as it existed July 1, 1991) in Township 62 North, Range 2 East Boise Meridian, Boundary County Idaho; less a tract of land in the Southeast Quarter of Section 15, Township 62 North, Range 2 East Boise Meridian, Boundary County, Idaho, more particularly described as follows: beginning at a point on the South line of the Southeast Quarter of said Section 15 that is North 89°52′41″ West, 975.72 feet from the Southeast corner of said Southeast Quarter, being the true point of beginning; thence North 13°44′33 West, 303.71 feet; thence North 24°27′42″ West, 47.42 feet thence North 36°09′04″ West, 206.70 feet; thence North 26°05′46″ West, 328.08 feet; thence North 30°04′46″ West, 346.34 feet; thence North 35°00′09″ West, 98.76 feet; thence North 18°32′36″ West, 165.79 feet; thence North 10°11′41″ West, 180.48 feet; thence North 03°18′59″ East, 183.11 feet; thence North 29°33′46″ East, 134.20 feet; thence North 50°26′39″ East, 58.82 feet; thence North 56°15′06″ East, approximately 112 feet to the ordinary high water mark of the Moyie River; thence along said ordinary high water mark in a southwesterly direction to the intersection with the South line of said Southeast Quarter; thence along said South line, South 89°52′41″ East, approximately 1339 feet to the true point of beginning. Subject to and together with a 60 foot easement for ingress and egress over the existing road in Section 15, lying east of the Moyie River and West of Old Highway No. 2 as it existed July 1, 1991, in Township 62 North, Range 2 East, W.M., Boundary County Idaho, containing 87.00 acres more or less.

183-T1013 Comanche Property

The North 105 feet of the West Half of Lot 1, Block 4, O'Callaghan's acre tracts, as shown on the plat recorded in Book 1 of plats, page 33, on file with the Boundary County, Idaho recorder. containing 0.261 acre, more or less.

183-T1011 Nimz Ranch Property

A parcel of land being portions of Sections 7, 8, 17, 18 and 19, Township 63 North, Range 1 East, Boise Meridian, Boundary County, Idaho, and being more particularly described as follows:

Commencing at the Southwest corner of Section 8, monumented by a lead tablet in concrete, from which the Northwest corner of said Section 8, monument by a lead tablet in concrete, bears North 00°00′59″ East a distance of 5285.17 feet;

Thence along the East line of Section 18, South 00°10′00″ East a distance of 546.38 feet to a ⅝ inch rebar with plastic cap marked PLS 12832 at the intersection with the Westerly line of the abandoned Kootenai Valley Railroad, thence continuing along said East section line, South 00°10′00″ East a distance of 141.13 feet to a ⅝ inch rebar with plastic cap marked PLS 12832 at the intersection with the Easterly line of said abandoned Kootenai Valley Railroad, said point being the TRUE POINT OF BEGINNING; Thence continuing along said East section line, South 00°10′00″ East, a distance of 1936.48 feet to an aluminum cap on drill steel marking the East Quarter Corner thereof; Thence continuing along said East section line, South 00°07′18″ East a distance of 2654.44 feet to an aluminum cap on iron rod marking the Southeast Corner thereof; Thence along the East line of said Section 19, South 00°23′43″ West a distance of 2638.85 feet to a USDA Brass Cap on a 2″ iron pipe marking the East Quarter Corner thereof; Thence along the South line of the North Half of said Section 19, North 89°59′41″ West a distance of 885.19 feet to a USDA Brass Cap on a 2″ iron pipe; Thence continuing along said South line, South 89°59′4l″ West a distance of 195.60 feet to the Easterly ordinary high water line of the Kootenai River;

Thence along said Easterly ordinary high water line the following 35 courses:

(l) North 15°37′14″ East a distance of 466.97 feet to a point;

(2) North 10°58′58″ East a distance of 1039.30 feet to a point;

(3) North 06°32′32″ West a distance of 1085.80 feet to a point;

(4) North 08°13′25″ East a distance of 259.60 feet to a point;

(5) North 19°15′10″ West a distance of 437.08 feet to a point;

(6) North 29°27′53″ West, a distance of 177.51 feet to a point;

(7) North 19°30′28″ West a distance of 221.08 feet to a point:

(8) North 09°12′12″ West a distance of 234.90 feet to a point;

(9) North 37°39′44″ West a distance of 463.77 feet to a point;

(10) North 13°33′36″ West a distance of 269.43 feet to a point;

(11) North 36°00′02″ West a distance of 684.21 feet to a point;

(12) North 44°40′42″ West a distance of 519.86 feet to a point;

(13) North 50°43′14″ West a distance of 296.10 feet to a point;

(14) North 58°46′59″ West a distance of 639.59 feet to a point;

(15) North 65°29′16″ West a distance of 707.33 feet to a point;

(16) North 64°09′05″ West a distance of 258.32 feet to a point;

(17) North 59°15′13″ West a distance of 211.48 feet to a point;

(18) North 39°00′47″ West a distance of 135.11 feet to a point;

(19) North 22°17′18″ West a distance of 273.01 feet to a point;

(20) North 07°26′18″ West a distance of 457.27 feet to a point;

(21) North 02°07′50″ East a distance of 353.80 feet to a point;

(22) North 09°51′40″ East a distance of 211.27 feet to a point;

(23) North 15°25′24″ East a distance of 240.94 feet to a point;

(24) North 21°02′13″ East a distance of 248.67 feet to a point;

(25) North 29°34′48″ East a distance of 1007.97 feet to a point;

(26) North 35°20′15″ East a distance of 304.03 feet to a point;

(27) North 52°22′59″ East a distance of 417.67 feet to a point;

(28) North 63°17′14″ East a distance of 186.46 feet to a point;

(29) North 67°12′16″ East a distance of 1399.23 feet to a point;

(30) North 59°06′58″ East a distance of 226.76 feet to a point;

(31) North 50°35′06″ East a distance of 529.28 feet to a point;

(32) North 31°21′06″ East a distance of 833.59 feet to a point;

(33) North 00°02′37″ East a distance of 220.31 feet to a point;

(34) North 16°22′16″ West a distance of 234.77 feet to a point;

(35) North 31°27′21″ West a distance of 38.38 feet to a point at the intersection of the Easterly ordinary high water line and the South line of Government Lot 1, said Section 7;

Thence along said South line, South 89°47′55″ East a distance of 773.94 feet to a ⅝ inch rebar with plastic cap marked PLS 12832 at the Southwest corner of the Northwest Quarter of the Northwest Quarter of said Section 8; Thence along the South line of said Northwest Quarter of the Northwest Quarter of said Section 8, North 88°30′22″ East a distance of 250.41 feet to a ⅝ inch rebar with plastic cap marked PLS 12832 on the centerline of the abandoned Kootenai Valley Railroad; Thence along said centerline, North 22°54′4+1″ West a distance of 287.04 feet to a ⅝ inch rebar with plastic cap marked PLS 7163 at the intersection with the Southwesterly right of way of Turner Hill Road;

Thence along the Southwesterly right of way the following 20 courses:

(1) Along the arc of a non-tangent curve to the left, with a length of 23.99 feet, a radius of 114.37 feet, a delta angle of 12°01′02″, and a chord bearing and distance of North 81°21′20″ East, 23.94 feet to a point

(2) Thence North 75°20′49″ East a distance of 140.45 feet to a point;

(3) Thence along the arc of a curve to the right, with a length of 128.76 feet, a radius of 200.52 feet, a delta angle of 36°47′25″, and a chord bearing and distance of South 86°15′29″ East, 126.56 feet to a point;

(4) Thence South 67°51′46″ East a distance of 142.00 feet to a point;

(5) Thence along the arc of a curve to the right, with a length of 97.52 feet, a radius of 226.30 feet, a delta angle of 24°41′27″, and a chord bearing and distance of South 55°31′03″ East, 96.77 feet to a point;

(6) Thence South 43°10′19″ East a distance of 48.17 feet to a point;

(7) Thence along the arc of a curve to the left, with a length of 146.43 feet, a radius of 490.27 feet, a delta angle of 17°06′44″, and a chord bearing and distance of South 51°43′41″ East, 145.88 feet to a point;

(8) Thence South 60°17′03″ East a distance of 47.69 feet to a point;

(9) Thence along the arc of a curve to the right, with a length of 34.43 feet, a radius of 111.97 feet, a delta angle of 17°36′58″, and a chord bearing and distance of South 51°28′34″ East, 34.29 feet to a ⅝″ rebar with plastic cap marked PLS 7163;

(10) Thence South 42°40′03″ East a distance of 1.07 feet to a point at the intersection with the South line of the Northwest Quarter of the Northwest Quarter of said Section 8;

(11) Thence continuing South 42°40′03″ East a distance of 670.12 feet to a ⅝″ rebar with plastic cap marked PLS 7163;

(12) Thence along the arc of a curve to the right, with a length of 1.99 feet, a radius of 612.91 feet, a delta angle of 0°11′09″, and a chord bearing and distance of South 42°34′29″ East, 1.99 feet to a point at the intersection with the East line of the Southwest Quarter of the Northwest quarter of said Section 8;

(13) Thence continuing along the arc of a curve to the right, with a length of 260.12 feet, a radius of 612.91 feet, a delta angle of 24°18′59″, and a chord bearing and distance of South 30°19′25″ East, 258.17 feet to a point;

(14) Thence South 18°09′55″ East a distance of 145.22 feet to a point;

(15) Thence along the arc of a curve to the left, with a length of 159.07 feet, a radius of 333.75 feet, a delta angle of 27°18′25″, and a chord bearing and distance of South 31°49′08″ East, 157.56 feet to a point;

(16) Thence South 45°28′20″ East a distance of 44.98 feet to a point;

(17) Thence along the arc of a curve to the right, with a length of 119.78 feet, a radius of 338.16 feet, a delta angle of 20°17′43″, and a chord bearing and distance of South 35°19′28″ East, 119.46 feet to a point;

(18) Thence South 25°10′37″ East a distance of 31.29 feet to a point;

(19) Thence along the arc of a curve to the left, with a length of 168.39 feet, a radius of 383.83 feet, a delta angle of 25°08′12″, and a chord bearing and distance of South 37°44′43″ East, 167.05 feet to a point;

(20) Thence South 50°1850″ East a distance of 24.44 feet to a point on the South line of the Southeast Quarter of the Northwest Quarter of said Section 8;

Thence along said South line, South 88°24′59″ West a distance of 490.59 feet to a ⅝″ rebar with plastic cap marked PLS 12832 marking the Southeast corner of the Southwest Quarter of the Northwest Quarter of said Section 8; Thence along the South line of said Southwest Quarter of the Northwest Quarter, South 88°24′59″ West a distance of 908.54 feet to a ⅝″ rebar with plastic cap marked PLS 12832 at the intersection with the Easterly line of the abandoned Kootenai Valley Railroad right of way; Thence along said Easterly line South 21°55′38″ West a distance of 257.15 feet to a ⅝″ rebar with plastic cap marked PLS 7163; Thence continuing said Easterly line, along the arc of a curve to the left, with a length of 619.80 feet, a radius of 1254.27 feet, a delta angle of 28°18′46″, and a chord bearing and distance of South 07°46′15″ West, 613.51 feet to a ⅝″ rebar with plastic cap marked PLS 7163; Thence continuing along said Easterly line, South 06°23′08″ East a distance of 1812.90 feet to a ⅝″ rebar with plastic cap marked PLS 12832 on the South line of said Section 8; Thence along said South line South 89°14′20″ West a distance of 51.33 feet to a ⅝″ rebar with plastic cap marked PLS 12832 on the Easterly line of the abandoned Kootenai Valley Railroad right of way; Thence along said Easterly line, along the arc of a non-tangent curve to the right, with a length of 568.42 feet, a radius of 677.22 feet, a delta angle of 48°05′27″, and a chord bearing and distance of South 20°54′2l″ West, 551.88 feet to a ⅝″ rebar with plastic cap marked PLS 7163; Thence continuing along said Easterly line, South 44°57′04″ West a distance of 250.03 feet to the TRUE POINT OF BEGINNING.

Less

A parcel of land being portions of Section 17, Township 63 North, Range 1 East, Boise Meridian, Boundary County, Idaho, and being more particularly described as follows:

Beginning at the Southwest corner of Section 8, monumented by a lead tablet in concrete, from which the Northwest corner of said Section 8, monumented by a lead tablet in, bears North 00°00′59″ East a distance of 5285.17 feet, said point being the TRUE POINT Of BEGINNING; Thence along the West line of said Section 17, South 00°10′00″ East a distance of 546.38 feet to a ⅝″ rebar with plastic cap marked PLS 12832 at the intersection with the Westerly line of the abandoned Kootenai Valley Railroad;

Thence along said Westerly line, North 44°57′04″ East a distance of 150.44 feet to a ⅝″ rebar with plastic cap marked PLS 7163; Thence continuing along said Westerly line, along the arc of a curve to the left; with a length of 488.64 feet, a radius of 577.22 feet, a delta angle of 48°30′11″, and a chord bearing and distance of North 20°41′58″ East, 474.18 feet to a ⅝″ rebar with plastic cap marked PLS 12832 on the North line of said Section 17; Thence along said North line, South 89°14′20″ West a distance of 275.51 feet to the TRUE POINT OF BEGINNING. Containing 655.148 acres, more or less.

183-T1010 Twin Rivers Canyon Resort Property

Government Lot 2 of Section 22, Township 62 North, Range 2 East, Boise Meridian, Boundary County, Idaho. Together with a 60 foot easement for ingress and egress over the existing road in Section 15, lying east of the Moyie River and west of Old Highway No. 2 as it existed July 1, 1991, in Township 62 North, Range 2 East, Boise Meridian, Boundary County, Idaho, as set forth in the deed recorded July 18, 2005, as instrument No. 221539 and a tract of land in the SE Quarter of Section 15, Township 62 North, Range 2 East, Boise Meridian, Boundary County, Idaho, more particularly described as follows: Beginning at a point on the south line of the SE Quarter of said Section 15 that is N89°52′41″ W, 975.72 feet from the SE corner of said SE Quarter, being the true point of beginning; thence N13°44′33″ W, 303.71 feet; thence N24°27′42″ W, 47.42 feet; thence N36°09′04″ W, 206.70 feet; thence N26°05′46″ W, 328.08 feet; thence N30°04′46″ W, 346.34 feet; thence N35°00′09″ W, 98.76 feet; thence N18°32′36″ W, 165.79 feet; thence N10°11′41″ W, 180.48 feet; thence N03°18′59″ E, 183.11 feet; thence N29°33′46″ E, 134.20 feet; thence N50°26′39″ E, 58.82 feet; thence N56°15′06″ E, approximately 112 feet to the ordinary high water mark of the Moyie River; thence along said ordinary high water mark in a southwesterly direction to the intersection with the south line of said SE quarter; thence along said south line, thence S89°52′41″ E, approximately 1339 feet the true point of beginning, containing 45.39 acres, more or less.

183-T1009 Kings House Property

Lots 1 and 2, less the northwesterly one foot thereof, Block 11, Eaton addition the city of Bonners Ferry, according to the plat thereof recorded in Book 1 of plats, page 7, on file with the Boundary County, Idaho recorder containing .156 acres, more or less.

183-T1008 Perkins Lake Property

Parcel A: The E½ of the SE¼ of the SW¼ of Section 32, Township 63 North, Range 3 East, Boise Meridian, Boundary County, Idaho.

Parcel B: The W½ of Lot 2 of Section 32, Township 63 North, Range 3 East, Boise Meridian, Boundary County, Idaho.

Parcel C: The W½ of the E½ of the SW¼ of Section 32, Township 63 North, Range 3 East, Boise Meridian, Boundary County, Idaho, less rights of way.

Parcel D: The S½ of the NW¼ of the SW¼ of Section 32, Township 63 North, Range 3 East, Boise Meridian, Boundary County, Idaho, containing 98.64 acres, more or less.

183-T1007 Farnsworth 2 Property

A tract of land situated in the South half of the Northwest quarter of Section 14, Township 62 North, Range 1 East, Boise Meridian, Boundary County, Idaho, more particularly described as follows:

Beginning at a point on the South line of the South half of the Northwest quarter of said Section 14 which is North 89°48′07″ West 278.38 feet from the southeast corner of said South half of the Northwest quarter, said corner being also the northeasterly corner of that parcel as shown and described on record of survey, Book 3 of surveys, page 136, as instrument no. 177957; thence continuing along the South line of the South half of the Northwest Quarter and the North line of said parcel North 89°48′07″ West, 436.36 feet; thence leaving the South line of the South Half of the Northwest quarter and continuing along the northerly boundary of said parcel the following two courses: on a curve to the left (radial bearing= South 36°46′15″ West) having a central angle of 36°34′22″, a radius of 330.00 feet, for an arc length of 210.64 feet (chord = North 71°30′56″ West, 207.09 feet); thence North 89°48′07″ West, 566.36 feet to the Northwest corner of said parcel and the Easterly right-of-way U.S. Highway No. 95; thence along said right-of-way North 22°58′36″ East, 412.64 feet; thence leaving said right-of-way South 89°42′52″ East, 753.46 feet to the Southwesterly corner of that parcel described in book 68 of instruments, page 325, as instrument no. 156829; thence South 61°24′04″ East, 400.00 feet to the Southeasterly corner of said parcel; thence South 61°24′04″ East, 108.56 feet to the Westerly boundary of the Boundary County Airport; thence along said Westerly boundary South 38°44′16″ West 258.75 feet to the true point of beginning.

A tract of land situated in the Southeast Quarter of the Northwest Quarter of Section 14, Township 62 North, Range 1 East, Boise Meridian, Boundary County, Idaho, more particularly described as follows:

Beginning at a point on the East line of the Southwest Quarter of the Northwest Quarter of said Section 14 which is North 0°33′04″ West 343.86 feet from the Southeast corner of said Southeast Quarter of the Northwest Quarter; thence continuing along said East line North 0°33′04″ West, 465.20 feet to the Southeast corner of that parcel as described in book 105 of instruments, page 30, as instrument no. 179634; thence leaving the East line of the Southeast Quarter of the Northwest Quarter and along the South line of said parcel North 89°42′52″ West, 1153.98 feet to the Southwest corner of said parcel and the Easterly right-of-way of U.S. Highway 95; thence along said right-of-way South 22°58′36″ West, 396.22 feet; thence leaving said right-of-way South 89°42′52″ East, 753.46 feet to the Southwesterly corner of that parcel described in Book 68 of instruments, page 325, as instrument No. 156829; thence along the boundary of said parcel the following three courses; North 28°36′56″ East, 230.00 feet; thence South 61°24′04″ East, 400 feet; thence South 28°36′56″ West, 230.00 feet; thence leaving said boundary South 61°24′04″ East 108.56 feet to the Westerly boundary of the Boundary County Airport; thence along said boundary North 38°44′16″ East, 180.82 feet to the true point of beginning. containing 20.26 acres, more or less.

183-T1006 Farnsworth I Property

A tract of land in the East half of the Northwest Quarter of Section 14, Township 62 North, Range 1 East, Boise Meridian, Boundary County, Idaho, more particularly described as follows: Beginning at a point on the East line of the Northwest Quarter of said Section 14, which is South 0°33′04″ East, 1394.41 feet from the North Quarter corner of Section 14; thence along the South line of Instrument No. 178624, North 89°42′52″ West, 977.08 feet to the Easterly right-of-way of U.S. Highway 95; thence along said right-of-way, South 22°58′36″ West 443.11 feet; thence leaving said right-of-way, South 89°42′52″ East, 1153.98 feet to the East line of the Northwest Quarter of Section 14; thence along said East line, North 0°33′04″ West, 408.85 feet to the true point of beginning, containing 10.00 acres, more or less.

183-T1005 Frontier Village Property

A parcel of land lying in a portion of Section 23, Township 60 North, Range 1 West, Boise Meridian, Boundary County, Idaho, more particularly described as follows: Beginning at the West ¼ corner of said Section 23, a found BLM brass cap, monumenting said corner which bears S0°18′50″E, 2649.28 feet from the NW corner of said section 23, a found BLM brass cap, monumenting said NW corner, thence S0°14′23″W, 1325.64 feet, along the west line of said Section 23, to a found 5/8” rebar, monumenting the South 1/16 corner of said Section 23; thence leaving said west line, N89°54′55″E, 653.91 feet along the east-west south 1/16 line of said Section 23 to a point; thence leaving said east-west south 1/16 line north 1306.56 feet, to a point in the centerline of a 60 foot wide road and utility easement; thence leaving said centerline, N0°59′56″E, 43.65 feet; thence S87°44′49″W, 649.62 feet to the pob, containing 20.00 acres, more or less.

183-T1004 Roman Catholic Diocese Property

Commencing at the northwest corner of the NE¼SW¼, Section 20, Township 62 North, Range 1 East, Boise Meridian, Boundary County, Idaho more particularly described as follows: A tract of land described as beginning at the northwest corner of the NE¼SW¼ Section 20 aforesaid; thence South 700 feet to the true point of beginning; thence East 148.5 feet; thence South 100 feet; thence West 148.5 feet to a point on the West line of lot 5 aforesaid; thence North 100 feet, more or less, to the true point of beginning, containing 0.34 acres, more or less.

183-T1002 River Inn Parcel

A part of Lot 3, Section 26, Lot 7, Section 27; a part of an accreted river channel in Sections 26 and 27, Township 62 North, Range 1 East, Boise Meridian and a part of Lots 1-14 inc., Block 11 in the Eaton townsite according to the official plats in Bonner and Boundary County; more particularly described as follows: Commencing at the witness corner to the quarter section corner between Section 26 and 27, said Township and Range, which is 17.82 feet North 0°20′58″ East, of the quarter section corner position of said Section 26 and 27, monumented with a rebar, ⅝ inches in diameter, with an aluminum cap marked ls 820; thence North 10°04′00″ West, 229.36 feet to a concrete monument 4 inches in diameter, with a brass cap, 2 inches in diameter marked, Idaho State Highway Department, which is 99.42 feet right of center line station 27+65.08 of project f-fg5116(8); thence North 18°27′24″ East, 49.37 feet along the easterly boundary of the State Highway 95 right-of-way (of record as North18°23′45″ East, on the Highway plans) to a rebar, 30 inches long, ⅝ inches in diameter, with a plastic cap marked ls 832; thence North 88°31′00″ East, 15.47 feet along the southeasterly boundary of the State Highway 95 right-of-way to a rebar, 30 inches long, ⅝ inches in diameter, with a plastic cap marked ls 832 (of record as a meander cor. on the line between Sections 26 and 27 on the state highway plans); thence North 0°05′45″ West, 13.46 feet along the easterly boundary of the State Highway 95 right-of-way (of record as the section line on the Highway plans) to the intersection of the projected northerly boundary of the Eaton townsite, monumented with a rebar, 30 inches long, ⅝ inches in diameter, with a plastic cap marked ls 832, the real point of beginning; thence continuing North 0°05′45″ West, 135.7 feet along the easterly boundary of the state highway 95 right-of-way (of record as to a meander cor. on the section line according to the Highway plans) to a rebar 30 inches long ⅝ inches in diameter, with a plastic cap marked ls 832; thence North 81°03′45″ West, 21.94 feet along the easterly boundary of the State Highway 95 right-of-way to a point 75.00 feet right of center line station 29+31.85; thence 357.63 feet along the arc of a 515.74 feet radius curve left on the easterly boundary of said State Highway 95 right-of-way, said curve having a central angle of 39°43′51″ and a chord bearing North 21°11′24″ West, 350.51 feet to a chiseled “x” on a rock; thence along the mean high water line of the left limit of the Kootenai River, the meanders of which are as follows: North 90°00′00″ East, 64.17 feet to a rebar, 30 inches long, ⅝ inches in diameter, with a plastic cap marked ls 832; thence South 89°22′16″ East, 100.63 feet to a rebar, 30 inches long, ⅝ inches in diameter, with a plastic cap marked ls.832; thence South 78°35′00″ East, 111.34 feet to a rebar, half inch in diameter, with a plastic cap marked ls 820; thence South 58°01′05″ East, 352.36 feet to a rebar, 30 inches long, ⅝ inches in diameter, with a plastic cap marked ls 832; thence South 78°30′00″ East, 103.52 feet to a rebar, 30 inches long, ⅝ inches in diameter, with a plastic cap marked ls 832; thence South 0°23′18″ East, 35.45 feet, partially along the boundary shown on the Charles Eddleman survey (of record as South 1° east, on book 1 at page 210); thence South 62°47′43″ West, 50.69 feet; thence continuing South 62°47′43″ West, 368.04 feet parallel with and 1.00 feet southeasterly from the northwesterly boundary of Lots 1-14 inc., Block 11 of the Eaton townsite, according to the plat on file in Book 1 of plat at page 8 in office of the recorder of Bonner County and at Book 1 of plats at page 7 in Boundary County; thence North 34°35′08″ West, 1.00 feet to the northwesterly corner of Lot 14, Block 11 of Eaton townsite; thence South 62°47′43″ West, 31.26 feet along northwesterly boundary of Eaton townsite; thence North 87°47′26″ West, 124.88 feet along the northwesterly boundary of Lot 7 and 8, Block 14 of Eaton townsite; thence continuing North 87°47′26″ West, 0.36 feet along a projection of the northwesterly boundary of the Eaton townsite, returning to the real point of beginning, situated within Sections 26 and 27, Township 62 North, Range 1 East, Boise meridian, Idaho, containing 3.869 acres, more or less.

183-T1001 Mission Site Property

Lots 12 and 13 of Section 20, Township 62 North, Range 1 East, Boise Meridian, Boundary County, Idaho, containing 12.47 acres, more or less.

183-T1000 Roman Catholic Diocese Property

Lots 9, 10, and 16 of Section 20, Township 62 North, Range 1 East, Boise Meridian, Boundary County, Idaho; said lots per BLM survey approved February 14, 1995, being the west 148.5 feet of the E½ SW¼ said Section 20 north of the north bank of the Kootenai River except the south 100 feet of the north 800 feet thereof, containing 5.71 acres, more or less, after the above exception.

The above described lands contain a total of 1073.41 acres, more or less, which are subject to all valid rights, reservations, rights-of-way, and easements of record.

This proclamation does not affect title to the lands described above, nor does it affect any valid existing easements for public roads, highways, public utilities, railroads and pipelines, or any other valid easements or rights-of-way or reservations of record.

Bryan Newland,
Assistant Secretary—Indian Affairs.

[FR Doc. 2024-14863 Filed 7-5-24; 8:45 am]

BILLING CODE 4337-15-P